DEPARTMENT OF JUSTICE

Notice of Lodging of Consent Decrees Pursuant to the Comprehensive Environmental Response Compensation and Liability Act

In accordance with Departmental policy, 28 CFR 50.7 and section 122(d)(2)(B) of CERCLA, 42 U.S.C. 9622(d)(2)(B), notice is hereby given that on December 22, 2004, two proposed consent decrees in United States v. Johnson Controls, Inc., et al. Civil Action No. 04-74987, were lodged with the United States District Court for the Eastern District of Michigan.

The two consent decrees resolve certain claims of the United States against three companies under sections 106 and 107(a) of CERCLA, 42 U.S.C. 9606 and 9607(a), at the Shiawassee River Superfund Site (“the Site”) in Howell, Livingston County Michigan. One of the consent decrees is with Johnson Controls, Inc. and Hoover Universal, Inc. That consent decree requires Johnson Controls and Hoover Universal to perform the remedial action EPA has selected for the Site. EPA's selected remedial action involves the removal of polychlorinated biphenyl (“PCB”) contamination from specified areas of the flood plain and river sediment of the Shiawassee River. The second consent decree is with Multifastener Corporation. That consent decree requires that Multifastener pay the United States $1,700,000 for past response costs incurred by EPA in connection with the Site.

The Department of Justice will receive, for a period of thirty (30) days from the date of this publication, comments relating to the two proposed consent decrees. Comments should be addressed to the Assistant Attorney General, Environment and Natural Resources Division, United States Department of Justice, P.O. Box 7611, Ben Franklin Station, Washington, DC 20044-7611, and should refer to United States v. Johnson Controls, Inc. et al., Civil Action No. 04-74987, and the Department of Justice Reference No. 90-11-3-07946.

The two proposed consent decrees may be examined at the Office of the United States Attorney for the Eastern District of Michigan, 211 W. Fort Street, Suite 2001, Detroit, Michigan 48226. During the public comment period, the two consent decrees may also be examined on the following Justice Department Web site, http://www.usdoj.gov/enrd/open.html. Copies of the consent decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $59.50 (25 cents per page reproduction cost) payable to the U.S. Treasury.

Benjamin Fisherow,
Deputy Chief, Environmental Enforcement Section, Environment and Natural Resources Division.

[FR Doc. 05-212 Filed 1-4-05; 8:45 am]

BILLING CODE 4410-15-M